DEPARTMENT OF THE INTERIOR

National Park Service

[NPS-WASO-PPFL-37193; PPWOPPFLF0; PPMVSIE1Y.Y00000; 244P103601]

Notice of Availability and Request for Comments on Draft Director's Order #42 Concerning National Park Service Policies and Procedures Governing Accessibility of National Park Service Facilities, Programs, Services, and Activities

AGENCY: National Park Service, Interior.

ACTION: Notice of availability, request for comments.

SUMMARY: The National Park Service (NPS) has prepared Director's Order #42 to set forth its policies and procedures for making facilities, transportation systems, information and communication technology, interpretive and educational programs and services, and commercial services accessible to visitors with disabilities. Once adopted, the policies and procedures in Director's Order #42 and the accompanying Reference Manual 42 (RM-42) will supersede and replace the policies and procedures issued in Director's Order #42: Accessibility for Visitors with Disabilities, dated November 3, 2000.

DATES: Written comments will be accepted until January 9, 2025.

ADDRESSES: Draft Director's Order #42 is available online at https://www.nps.gov/subjects/policy/new.htm where readers may submit comments electronically.

FOR FURTHER INFORMATION CONTACT: Jeremy Buzzell, Accessibility Program Manager, National Park Service, at jeremy_buzzell@nps.gov, or by telephone at 202-768-4894.

SUPPLEMENTARY INFORMATION: The NPS is updating its current system of internal written instructions. When these documents contain new policy or procedural requirements that may affect parties outside the NPS, they are first made available for public review and comment before being adopted. Director's Order #42 and a reference manual (subsequent to the Director's Order) will be issued. The draft Director's Order provides direction to NPS managers and employees with responsibilities for ensuring visitor use opportunities (facilities, transportation systems, information and communication technology, interpretive and educational programs and services, and commercial services) are accessible and inclusive to visitors with disabilities.

Public Disclosure of Comments: Before including your address, telephone number, email address, or other personal identifying information in your comment, you should be aware that your entire comment—including your personal identifying information—may be made publicly available at any time. While you may ask us in your comment to withhold your personal identifying information from public review, we cannot guarantee that we will be able to do so.

Authority: 54 U.S.C. 100101(a) et seq.

Alma Ripps,
Chief, Office of Policy.

[FR Doc. 2024-28942 Filed 12-9-24; 8:45 am]

BILLING CODE 4312-52-P